NATIONAL SCIENCE FOUNDATION

Advisory Panel for Methods, Cross-Directorate, and Science and Society; Notice of Meeting

In accordance with the Federal Advisory Committee Act (Pub. L. 92-463, as amended), the National Science Foundation (NSF) announces the following 3 meetings of the Advisory Panel for Methods, Cross-Directorate, and Science Society (#1760):

1. Date and Time: May 11, 12, 2000; 8:30 a.m.-5 p.m.

Place: National Science Foundation, 4201 Wilson Blvd., Room 970, Arlington, VA 22230

Contact Person: Rachelle Hollander, Program Director for SDEST, National Science Foundation, 4201 Wilson Boulevard, Arlington, VA 22230. Telephone: (703) 306-1743.

Agenda: To review and evaluate SDEST proposals as part of the selection process for awards.

2. Date and Time: May 23-13, 2000; 8:30 a.m.-5 p.m.

Place: National Science Foundation, 4201 Wilson Blvd., Room 370, Arlington, VA 22230

Contact Person: Dr. Michael M. Sokal, Program Director for Science & Technology Studies, National Science Foundation, 4201 Wilson Boulevard, Arlington, VA 22230. Telephone: (703) 306-1742.

Agenda: To review and evaluate STS proposals as part of the selection process for awards.

3. Date and Time: May 08-09, 2000, 1999, 8:30 a.m.-5 p.m.

Place: National Science Foundation, 4201 Wilson Blvd., Room 370, Arlington, VA 22230

Contact Person: Dr. Cheryl L. Eavey, Program Director for Methods, Measurement & Statistics, National Science Foundation, 4201 Wilson Boulevard, Arlington, VA 22230. Telephone: (703) 306-1729.

Agenda: To review and evaluate MMS proposals as part of the selection process for awards.

Purpose of Meetings: To provide advice and recommendations concerning proposals submitted to NSF for financial support.

Reason for Closing: The proposals being reviewed include information of a proprietary or confidential nature, including technical information; financial data, such as salaries; and personal information concerning individuals associated with the proposals. These matters are exempt under 5 U.S.C. 552b(c), (4), and (6) of the Government in the Sunshine Act.

Dated: April 19, 2000.
Karen J. York,
Committee Management Officer.

[FR Doc. 00-10128 Filed 4-21-00; 8:45 am]

BILLING CODE 7555-01-M sea